DEPARTMENT OF HOMELAND SECURITY

Federal Emergency Management Agency

[Docket ID FEMA-2021-0002; Internal Agency Docket No. FEMA-B-2159]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Connecticut: Fairfield | City of Stamford (21-01-0442P). | The Honorable David R. Martin, Mayor, City of Stamford, 888 Washington Boulevard, 10th Floor, Stamford, CT 06901. | Environmental Protection Board, 888 Washington Boulevard, 7th Floor, Stamford, CT 06901. | https://msc.fema.gov/portal/advanceSearch. | Nov. 16, 2021 | 090015
Florida:
Duval | City of Jacksonville (21-04-0882P). | The Honorable Lenny Curry, Mayor, City of Jacksonville, 117 West Duval Street, Suite 400, Jacksonville, FL 32202. | Development Services Division, 214 North Hogan Street, Jacksonville, FL 32202. | https://msc.fema.gov/portal/advanceSearch. | Oct. 25, 2021 | 120077
Glades | Seminole Tribe of Florida (21-04-1236P). | The Honorable Marcellus W. Osceola, Jr., Chairman, Seminole Tribe of Florida, 6300 Stirling Road, Hollywood, FL 33024. | Hollywood Environmental Resource Management Department, 6363 Taft Street, Suite 309, Hollywood, FL 33024. | https://msc.fema.gov/portal/advanceSearch. | Oct. 21, 2021 | 120685
Hendry | Seminole Tribe of Florida (19-04-1505P). | The Honorable Marcellus W. Osceola, Jr., Chairman, Seminole Tribe of Florida, 6300 Stirling Road, Hollywood, FL 33024. | Hollywood Environmental Resource Management Department, 6363 Taft Street, Suite 309, Hollywood, FL 33024. | https://msc.fema.gov/portal/advanceSearch. | Oct. 15, 2021 | 120685
Glades | Unincorporated areas of Glades County (21-04-1236P). | The Honorable Tim Stanley, Chairman, Glades County Board of Commissioners, P.O. Box 1527, Moore Haven, FL 33471. | Glades County Community Development Department, 198 6th Street, Moore Haven, FL 33471. | https://msc.fema.gov/portal/advanceSearch. | Oct. 21, 2021 | 120095
Hendry | Unincorporated areas of Hendry County (19-04-1505P). | The Honorable Mitchell Wills, Chairman, Hendry County Board of Commissioners, P.O. Box 2340, LaBelle, FL 33975. | Hendry County Building Department, 640 South Main Street, LaBelle, FL 33935. | https://msc.fema.gov/portal/advanceSearch. | Oct. 15, 2021 | 120107
Leon | City of Tallahassee (21-04-3156X). | The Honorable John E. Dailey, Mayor, City of Tallahassee, 300 South Adams Street, Tallahassee, FL 32301. | Stormwater Management Department, 408 North Adams Street, Tallahassee, FL 32301. | https://msc.fema.gov/portal/advanceSearch. | Nov. 4, 2021 | 120144
Leon | Unincorporated areas of Leon County (21-04-3156X). | The Honorable Rick Minor, Chairman, Leon County Commission, 301 South Monroe Street, Tallahassee, FL 32301. | Department of Development Support and Environmental Management, 435 North Macomb Street, 2nd Floor, Tallahassee, FL 32301. | https://msc.fema.gov/portal/advanceSearch. | Nov. 4, 2021 | 120143
Monroe | City of Key Colony Beach (21-04-2856P). | The Honorable Ron Sutton, Mayor, City of Key Colony Beach, 600 West Ocean Drive, Key Colony Beach, FL 33051. | City Hall, 600 West Ocean Drive, Key Colony Beach, FL 33051. | https://msc.fema.gov/portal/advanceSearch. | Nov. 8, 2021 | 125121
Monroe | Unincorporated areas of Monroe County (21-04-3074P). | The Honorable Michelle Coldiron, Mayor, Monroe County Board of Commissioners, 25 Ships Way, Big Pine Key, FL 33043. | Monroe County Building Department, 2798 Overseas Highway, Suite 300, Marathon, FL 33050. | https://msc.fema.gov/portal/advanceSearch. | Nov. 12, 2021 | 125129
Pasco | Unincorporated areas of Pasco County (20-04-5876P). | The Honorable Dan Biles, Pasco County Administrator, 8731 Citizens Drive, Suite 350, New Port Richey, FL 34654. | Pasco County Government Center, 8731 Citizens Drive, New Port Richey, FL 34654. | https://msc.fema.gov/portal/advanceSearch. | Nov. 1, 2021 | 120230
Volusia | City of Daytona Beach (21-04-3150P). | The Honorable Derrick L. Henry, Mayor, City of Daytona Beach, 301 South Ridgewood Avenue, Room 200, Daytona Beach, FL 32114. | Utilities Department, 125 Basin Street, Suite 100, Daytona Beach, FL 32114. | https://msc.fema.gov/portal/advanceSearch. | Nov. 17, 2021 | 125099
Walton | City of Freeport (21-04-1423P). | The Honorable Russ Barley, Mayor, City of Freeport, 112 State Hwy. 20 West, Freeport, FL 32439. | Planning and Zoning Department, 16040 Highway 331 Business, Freeport, FL 32439. | https://msc.fema.gov/portal/advanceSearch. | Oct. 18, 2021 | 120319
Georgia: Columbia | City of Harlem (21-04-3151P). | The Honorable Roxanne Whitaker, Mayor, City of Harlem, P.O. Box 99, Harlem, GA 30814. | City Hall, 320 North Louisville Street, Harlem, GA 30814. | https://msc.fema.gov/portal/advanceSearch. | Nov. 12, 2021 | 130266
Louisiana:
Ascension | Unincorporated areas of Ascension Parish (20-06-3506P). | The Honorable Clint Cointment, President, Ascension Parish, 615 East Worthey Street, Gonzales, LA 70737. | Ascension Parish Governmental Complex, 615 East Worthey Street, Gonzales, LA 70737. | https://msc.fema.gov/portal/advanceSearch. | Oct. 15, 2021 | 220013
Lafayette | City of Broussard (21-06-1666P). | The Honorable Ray Bourque, Mayor, City of Broussard, 310 East Main Street, Broussard, LA 70518. | City Hall, 310 East Main Street, Broussard, LA 70518 | https://msc.fema.gov/portal/advanceSearch. | Sep. 20, 2021 | 220102
LaSalle | Unincorporated areas of LaSalle Parish (21-06-2196P). | Mr. Robert Fowler, LaSalle Parish President, P.O. Box 1288, Jena, LA 71342. | LaSalle Parish Courthouse, 1050 Courthouse Street, Room 13, Jena, LA 71342. | https://msc.fema.gov/portal/advanceSearch. | Nov. 18, 2021 | 220112
Maine: York | Town of Kittery (20-01-0605P). | Ms. Kendra Amaral, Manager, Town of Kittery, 200 Rogers Road, Kittery, ME 03904. | Planning and Development Department, 200 Rogers Road, Kittery, ME 03904. | https://msc.fema.gov/portal/advanceSearch. | Oct. 14, 2021 | 230171
Maryland: Frederick | City of Frederick (21-03-0422P). | The Honorable Michael O'Connor, Mayor, City of Frederick, 101 North Court Street, Frederick, MD 21701. | Engineering Department, 140 West Patrick Street, 3rd Floor, Frederick, MD 21701. | https://msc.fema.gov/portal/advanceSearch. | Nov. 1, 2021 | 240030
Massachusetts:
Plymouth | Town of Carver (20-01-0491P). | Mr. Richard LaFond, Town of Carver Administrator, 108 Main Street, Carver, MA 02330. | Town Hall, 108 Main Street, Carver, MA 02330. | https://msc.fema.gov/portal/advanceSearch. | Nov. 26, 2021 | 250262
Plymouth | Town of Pembroke (20-01-0491P). | Mr. William D. Chenard, Town of Pembroke Manager, 100 Center Street, Pembroke, MA 02359. | Town Hall, 100 Center Street, Pembroke, MA 02359. | https://msc.fema.gov/portal/advanceSearch. | Nov. 26, 2021 | 250277
Nevada: Nye | Unincorporated areas of Nye County (21-09-0364P). | The Honorable Debra Strickland, Chair, Nye County Board of Commissioners, 2100 East Walt Williams Drive, Suite 100, Pahrump, NV 89048. | Nye County Planning Department, 250 North Highway 160, Suite 1, Pahrump, NV 89050. | https://msc.fema.gov/portal/advanceSearch. | Nov. 1, 2021 | 320018
New Mexico: Santa Fe | Unincorporated areas of Santa Fe County (21-06-1246P). | Ms. Katherine Miller, Santa Fe County Manager, 102 Grant Avenue, Santa Fe, NM 87501. | Santa Fe County Building and Development Services Department, 102 Grant Avenue, Santa Fe, NM 87501. | https://msc.fema.gov/portal/advanceSearch. | Nov. 17, 2021 | 350069
Rhode Island: Washington | Town of Charlestown (21-01-0755P). | The Honorable Deborah A. Carney, President, Town of Charlestown Council, 4540 South County Trail, Charlestown, RI 02813. | Building/Zoning and Floodplain Management Department, 4540 South County Trail, Charlestown, RI 02813. | https://msc.fema.gov/portal/advanceSearch. | Oct. 29, 2021 | 445395
Texas:
Bexar | City of San Antonio (20-06-2739P). | The Honorable Ron Nirenberg, Mayor, City of San Antonio, P.O Box 839966, San Antonio, TX 78283. | Transportation and Capital Improvement, Storm Water Division, 114 West Commerce Street, San Antonio, TX 78205. | https://msc.fema.gov/portal/advanceSearch. | Oct. 18, 2021 | 480045
Bexar | City of San Antonio (21-06-0439P). | The Honorable Ron Nirenberg, Mayor, City of San Antonio, P.O Box 839966, San Antonio, TX 78283. | Transportation and Capital Improvement, Storm Water Division, 114 West Commerce Street, San Antonio, TX 78205. | https://msc.fema.gov/portal/advanceSearch. | Oct. 25, 2021 | 480045
Bexar | Unincorporated areas of Bexar County (21-06-0439P). | The Honorable Nelson W. Wolff, Bexar County Judge, 101 West Nueva Street, 10th Floor, San Antonio, TX 78205. | Bexar County Public Works Department, 1948 Probandt Street, San Antonio, TX 78214. | https://msc.fema.gov/portal/advanceSearch. | Oct. 25, 2021 | 480035
Burnet | Unincorporated areas of Burnet County (21-06-1501P). | The Honorable James Oakley, Burnet County Judge, 220 South Pierce Street, Burnet, TX 78611. | Burnet County Development Services Department, 133 East Jackson Street, Burnet, TX 78611. | https://msc.fema.gov/portal/advanceSearch. | Nov. 18, 2021 | 481209
Collin | City of Plano (21-06-0228P). | The Honorable John B. Muns, Mayor, City of Plano, 1520 K Avenue, Plano, TX 75074. | City Hall, 1520 K Avenue, Plano, TX 75074. | https://msc.fema.gov/portal/advanceSearch. | Nov. 5, 2021 | 480140
Dallas | City of Rowlett (20-06-2314P). | The Honorable Tammy Dana-Bashian, Mayor, City of Rowlett, 4000 Main Street, Rowlett, TX 75088. | Community Development Department, 5702 Rowlett Road, Rowlett, TX 75089. | https://msc.fema.gov/portal/advanceSearch. | Nov. 19, 2021 | 480185
Galveston | City of League City (21-06-0710P). | The Honorable Pat Hallisey, Mayor, City of League City, 300 West Walker Street, League City, TX 77573. | Engineering Department, 500 West Walker Street, League City, TX 77573. | https://msc.fema.gov/portal/advanceSearch. | Oct. 18, 2021 | 485488
Galveston | Unincorporated areas of Galveston County (21-06-0710P). | The Honorable Mark Henry, Galveston County Judge, 772 Moody Avenue, Suite 200, Galveston, TX 77550. | Galveston County Building Department, 823 Rosenberg Street, Galveston, TX 77553. | https://msc.fema.gov/portal/advanceSearch. | Oct. 18, 2021 | 485470
Llano | Unincorporated areas of Llano County (21-06-1501P). | The Honorable Ron Cunningham, Llano County Judge, 801 Ford Street, Room 101, Llano, TX 78643. | Llano County Land Development and Emergency Management Department, 100 West Sandstone Street, Suite 200A, Llano, TX 78643. | https://msc.fema.gov/portal/advanceSearch. | Nov. 18, 2021 | 481234
Rockwell | City of Rockwall (20-06-3796P). | Ms. Mary Smith, Interim City Manager, City of Rockwall, 385 South Goliad Street, Rockwall, TX 75087. | Planning and Zoning Department, 385 South Goliad Street, Rockwall, TX 75087. | https://msc.fema.gov/portal/advanceSearch. | Nov. 1, 2021 | 480547
Tarrant | City of Fort Worth (21-06-0746P). | The Honorable Betsy Price, Mayor, City of Fort Worth, 200 Texas Street, Fort Worth, TX 76102. | Transportation and Public Works Department, Engineering Vault, 200 Texas Street, Fort Worth, TX 76102. | https://msc.fema.gov/portal/advanceSearch. | Sep. 27, 2021 | 480596
Travis | City of Pflugerville (20-06-3449P). | The Honorable Victor Gonzales, Mayor, City of Pflugerville, 100 East Main Street, Suite 300, Pflugerville, TX 78691. | Development Services Department, 201-B East Pecan Street, Pflugerville, TX 78691. | https://msc.fema.gov/portal/advanceSearch. | Nov. 22, 2021 | 481028
Travis | City of Pflugerville (21-06-0300P). | The Honorable Victor Gonzales, Mayor, City of Pflugerville, 100 East Main Street, Suite 300, Pflugerville, TX 78691. | Development Services Department, 201-B East Pecan Street, Pflugerville, TX 78691. | https://msc.fema.gov/portal/advanceSearch. | Oct. 4, 2021 | 481028
Travis | Unincorporated areas of Travis County, (21-06-0300P). | The Honorable Andy Brown, Travis County Judge, P.O. Box 1748, Austin, TX 78767. | Travis County, Transportation and Natural Resources Department, 700 Lavaca Street, 5th Floor, Austin, TX 78701. | https://msc.fema.gov/portal/advanceSearch. | Oct. 4, 2021 | 481026
Webb | Unincorporated areas of Webb County (21-06-0214P). | The Honorable Tano E. Tijerina, Webb County Judge, 1000 Houston Street, 3rd Floor, Laredo, TX 78040. | Webb County, Planning Department, 1110 Washington Street, Suite 302, Laredo, TX 78040. | https://msc.fema.gov/portal/advanceSearch. | Oct. 12, 2021 | 481059
Utah: Salt Lake | City of South Jordan (20-08-0763P). | The Honorable Dawn R. Ramsey, Mayor, City of South Jordan, 1600 West Towne Center Drive, South Jordan, UT 84095. | Development Services Department, 1600 West Towne Center Drive, South Jordan, UT 84095. | https://msc.fema.gov/portal/advanceSearch. | Sep. 27, 2021 | 490107

[FR Doc. 2021-17218 Filed 8-11-21; 8:45 am]

BILLING CODE 9110-12-P